DEPARTMENT OF DEFENSE

Office of the Secretary

[Docket ID DoD-2020-OS-0103]

Proposed Collection; Comment Request

AGENCY: Office of the Under Secretary of Defense for Personnel and Readiness, Department of Defense (DoD).

ACTION: Information collection notice.

SUMMARY: In compliance with the Paperwork Reduction Act of 1995, the Office of the Under Secretary of Defense for Personnel and Readiness announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by February 26, 2021.

ADDRESSES: You may submit comments, identified by docket number and title, by any of the following methods:

• Federal eRulemaking Portal: http://www.regulations.gov. Follow the instructions for submitting comments.

• Mail: DoD cannot receive written comments at this time due to the COVID-19 pandemic. Comments should be sent electronically to the docket listed above.

Instructions: All submissions received must include the agency name, docket number, and title for this Federal Register document. The general policy for comments and other submissions from members of the public is to make these submissions available for public viewing on the internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to DANTES, 6490 Saufley Field Rd, Pensacola, Florida 32509, Candice Rice, 850-452-1901.

SUPPLEMENTARY INFORMATION: Title; Associated Form; and OMB Number: Application for Department of Defense (DoD) Voluntary Education Partnership Memorandum of Understanding (MOU); DD Form 3115; OMB Control Number 0704-XXXX.

Needs and Uses: The information collection requirement is necessary to enhance the DoD's ability to improve Service member and veteran education experiences, and ensure there is applicable and relevant information, as well as streamlined-tools to aid them in selecting an education institution that best meets their respective needs. The data culled from this information collection will standardize data/information provided to Service members and veterans to help them understand the total cost of educational programs. This includes providing meaningful information and data to students about the financial costs, refund policies, and attendance at the institution so military students can make informed decisions on where to attend school, provide information on academic and student support services specific to the educational institutions' programs, inform service member and veteran students about available tools to aid them in selecting an education institution, be certified to participate in federal student aid programs through the Department of Education under Title IV, be accredited by a national or regional accrediting body recognized by the ED, and be state-approved for the use of veterans' education benefits (Post 9/11-GI Bill).

Affected Public: Individuals or Households.

Annual Burden Hours: 262.

Number of Respondents: 2,616.

Responses per Respondent: 1.

Annual Responses: 2,616.

Average Burden per Response: 6 minutes.

Frequency: Annually.

Dated: December 11, 2020.
Aaron T. Siegel,
Alternate OSD Federal Register Liaison Officer, Department of Defense.

[FR Doc. 2020-28482 Filed 12-23-20; 8:45 am]

BILLING CODE 5001-06-P